DEPARTMENT OF ENERGY

Federal Energy Regulatory Commission

Notice of Request for Extension of Time To Commence and Complete Project Construction and Soliciting Comments, Motions To Intervene, and Protests

March 7, 2001.

Take notice that the following application has been filed with the Commission and is available for public inspection:

a. Application Type: Request for Extension of Time.

b. Project No: 8864-017.

c. Date Filed: February 6, 2001.

d. Applicant: Calligan Hydro, Inc.

e. Name and Location of Project: The Calligan Creek Hydroelectric Project is located on Calligan Creek in King County, Washington. The project does not occupy federal or tribal land.

f. Filed Pursuant to: Public Law 105-189 and sections 4.200(c) and 4.202(a) of the Commission's regulations.

g. Applicant Contact: Mr. Frank W. Frisk, Jr., Suite 125, 1054 31st Street, NW., Washington, DC, (202) 333-8433.

h. FERC Contact: Any questions on this notice should be addressed to James Hunter at (202) 219-2839.

i. Deadline for filing comments and or motions: April 13, 2001.

All documents (original and eight copies) should be filed with: David P. Boergers, Secretary, Federal Energy Regulatory Commission, 888 First Street, NE., Washington DC 20426. Comments and protests may be filed electronically via the internet in lieu of paper. See, 18 CFR 385.2001(a)(1)(iii) and the instruction on the Commission's web site at http://www.ferc.fed.us/efi/doorbell.htm

Please include the project number (P-8864-017) on any comments or motions filed.

j. Description of Proposal: The Applicant requests an extension of time to May 13, 2003, to commence construction, as authorized by Public Law 103-189. In support of its request, the Applicant details several attempts to obtain power purchase agreements or other arrangements that could support project financing. The Applicant notes that it filed on January 30, 2001, an application for amendment of the project license (Project No. 8864-016) proposing to increase the capacity from 5.4 megawatts to 7.3 megawatts, at a cost likely to be lower per megawatt, which should make the project more attractive to potential power purchasers. The Applicant states further that it has obtained most preconstruction permits and approvals, and is confident that all remaining approvals can be obtained in time to meet the new construction deadline. The deadline for completion of construction would be extended to May 13, 2005.

k. Locations of the application: A copy of the application is available for inspection and reproduction at the Commission's Public Reference Room, located at 888 First Street, NE., Room 2A, Washington, DC 20426 or by calling (202) 208-1371. The application may be viewed on the web at www.ferc.fed.us/online/rims.htm (Call (202) 208-222 for assistance). A copy is also available for inspection and reproduction at the address in item g above.

l. Individuals desiring to be included on the Commission's mailing list should so indicate by writing to the Secretary of the Commission.

Comments, Protests, or Motions to Intervene—Anyone may submit comments, a protest, or a motion to intervene in accordance with the requirements of Rules of Practice and procedure, 18 CFR 385.210, 211, 214. In determining the appropriate action to take, the Commission will consider all protests or other comments filed, but only those who file a motion to intervene in accordance with the Commission's Rules may become a party to the proceeding. Any comments, protests, or motions to intervene must be received on or before the specified comment date for the particular application.

Filing and Service of Responsive Documents.—Any filings must bear in all capital letters the title “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-6150 Filed 3-12-01; 8:45 am]

BILLING CODE 6717-01-M